DEPARTMENT OF ENERGY

Federal Energy Regulatory Commission

[Project No. 14863-000]

BM Energy Park, LLC; Notice of Preliminary Permit Application Accepted for Filing and Soliciting Comments, Motions To Intervene, and Competing Applications

On November 29, 2017, BM Energy Park, LLC filed an application for a preliminary permit, pursuant to section 4(f) of the Federal Power Act, proposing to study the feasibility of the Banner Mountain Pumped Storage Hydro Project (project) to be located near Casper in Converse County, Wyoming. On January 19 and 29, 2018, the application was amended with a new project boundary. The sole purpose of a preliminary permit, if issued, is to grant the permit holder priority to file a license application during the permit term. A preliminary permit does not authorize the permit holder to perform any land-disturbing activities or otherwise enter upon lands or waters owned by others without the owners' express permission.

The proposed project will be closed-loop. Water to initially fill the reservoirs will be diverted from Deer Creek via a temporary diversion, pump system, and pipeline. Required make-up water will be provided from a new well that will be drilled near the lower reservoir. The proposed project would consist of upper and lower reservoirs, a penstock connecting the two reservoirs, a powerhouse, a transmission line, and an access road to each reservoir. Both reservoirs would be formed by earthen and/or roller compacted concrete embankments with a maximum height of 50-75 feet, and would be lined with impervious geotextile or pavement. The lower reservoir would have a storage capacity of 4,050 acre-feet at its normal maximum water surface elevation of 6,000 feet, and surface area of 80 acres. The upper reservoir would have a storage capacity of 4,050 acre-feet at its normal maximum water surface elevation of 7,125 feet and surface area of 50 acres. Water would be conveyed from the upper reservoir to the lower reservoir via a 5,000-foot-long, 18-foot diameter steel-lined penstock. The powerhouse would contain three Ternary turbine generator units with a total installed capacity of 400 MW. Project power would be transmitted through either a new single circuit 230-kilovolt (kV) transmission line from the proposed powerhouse 0.4 miles northwest to a new substation on the planned Energy Gateway West 500-kV transmission line, or via a new 230-kV transmission line running 16 miles north to PacifiCorp's Windstar substation.

The estimated average annual generation of the project would be 1,300 gigawatt-hours.

Applicant Contact: Carl Borgquist, President and CEO, BM Energy Park, LLC, 209 S. Willson Ave., P.O. Box 309, Bozeman, MT 59771, phone (406) 585-3006.

FERC Contact: Peter McBride, (202) 502-8132, peter.mcbride@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14863-000.

More information about this project, including a copy of the application, can be viewed or printed on the eLibrary link of Commission's website at http://www.ferc.gov/docs-filing/elibary.asp. Enter the docket number (P-14863) in the docket number field to access the document. For assistance, contact FERC Online Support.

Dated: February 7, 2018.
Kimberly D. Bose,
Secretary.

[FR Doc. 2018-02960 Filed 2-13-18; 8:45 am]

BILLING CODE 6717-01-P